DEPARTMENT OF ENERGY

Federal Energy Regulatory Commission

[Docket No. EL10-51-000]

Grassland Renewables Energy LLC; Notice of Petition for Declaratory Order

March 30, 2010.

Take notice that on March 29, 2010, pursuant to Rule 207 of the Federal Energy Regulatory Commission's (Commission) Rules of Practice and Procedure, Grassland Renewables Energy LLC filed an application for Petition for Declaratory Order, requesting the Commission to rule on whether the Petitioner's proposal to construct the Wind Spirit Project Collector System (WSP Collector System) as a participant funded transmission facility with priority transmission service rights assigned to WSP Poolco and other entities that agree to pay for the entire cost of the WSP Collector System by contracting for such service at cost-based rates in advance of construction, satisfies the Commission's open access transmission requirements, as the Commission ruled on a participant funded transmission facilities in Orders, Northeast Utilities Service Co. and NSTAR Electric Co., 127 FERC ¶ 61,179 (May 22, Order), and reh'g denied, 129 FERC ¶ 61,279 (December 29, Order) (2009).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 28, 2010.

Kimberly D. Bose,
Secretary.

[FR Doc. 2010-9935 Filed 4-28-10; 8:45 am]

BILLING CODE 6717-01-P